DEPARTMENT OF HEALTH AND HUMAN SERVICES

Centers for Disease Control and Prevention

Disease, Disability, and Injury Prevention and Control Special Emphasis Panel: Health Protection Research Initiative Investigator Initiated Research, Program Announcement CD 04 002

In accordance with section 10(a)(2) of the Federal Advisory Committee Act (Pub. L. 92-463), the Centers for Disease Control and Prevention (CDC) announces the following meeting:

Name: Disease, Disability, and Injury Prevention and Control Special Emphasis Panel (SEP): Health Protection Research Initiative Investigator Initiated Research, Program Announcement CD 04 002.

Times and Dates: 11 a.m.-12:30 p.m., June 6, 2005 (Closed).

Place: Centers for Disease Control and Prevention/Office of Public Health Research, 1 West Court Square, Suite 7000, Room 7009, Mailstop D-72, Decatur, GA 30030, Telephone 404-371-5253.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to Health Protection Research Initiative Investigator Initiated Research, Program Announcement CD 04 002.

Contact Person for More Information: Mary L. Lerchen, DrPH, MS, Designated Federal Official, Office of Chief of Science, CDC, Office of Public Health Research, 1 West Court Square, Suite 7000, Room 709, Mailstop D-72, Decatur, GA 30030, Telephone 404-371-5282.

The Director, Management Analysis and Services Office, has been delegated the authority to sign Federal Register notices pertaining to announcements of meetings and other committee management activities, for both CDC and the Agency for Toxic Substances and Disease Registry.

Dated: April 27, 2005.
Alvin Hall,
Director, Management Analysis and Services Office, Centers for Disease Control and Prevention.

[FR Doc. 05-8882 Filed 5-4-05; 8:45 am]

BILLING CODE 4163-18-P